DEPARTMENT OF HEALTH AND HUMAN SERVICES

National Institutes of Health

Center for Scientific Review; Amended Notice of Meeting

Notice is hereby given of a change in the meeting of the Genomics, Computational Biology and Technology Study Section, October 16, 2013, 8:30 a.m. to October 17, 2013, 1:00 p.m., Avenue Hotel Chicago, 160 E. Huron Street, Chicago, IL 60611 which was published in the Federal Register on September 17, 2013, 78 FR 180 Pgs. 57168-57169.

The meeting will start on December 18, 2013 at 8:30 a.m. and will end on December 19, 2013 at 3:00 p.m. The meeting location remains the same. The meeting is closed to the public.

Dated: October 24, 2013.
Carolyn A. Baum,
Program Analyst, Office of Federal Advisory Committee Policy.

[FR Doc. 2013-25660 Filed 10-29-13; 8:45 am]

BILLING CODE 4140-01-P